DEPARTMENT OF HEALTH AND HUMAN SERVICES

National Institutes of Health

Center for Scientific Review; Amended Notice of Meeting

Notice is hereby given of a change in the meeting of the Center for Scientific Review Special Emphasis Panel, February 25, 2010, 1 p.m. to February 25, 2010, 4 p.m., National Institutes of Health, 6701 Rockledge Drive, Bethesda, MD, 20892 which was published in the Federal Register on February 1, 2010, 75 FR 5092.

The meeting will be held February 22, 2010, from 11 a.m. to 2 p.m. The meeting location remains the same.

The meeting is closed to the public.

Dated: February 2, 2010.
Jennifer Spaeth,
Director, Office of Federal Advisory Committee Policy.

[FR Doc. 2010-2886 Filed 2-9-10; 8:45 am]

BILLING CODE 4140-01-P